FEDERAL COMMUNICATIONS COMMISSION

47 CFR Part 73

[MB Docket No. 11-139, RM-11636; DA 11-1401]

Television Broadcasting Services; Hampton-Norfolk, Virginia; Norfolk, Virginia-Elizabeth City, NC

AGENCY: Federal Communications Commission.

ACTION: Proposed rule.

SUMMARY: The Commission has before it a petition for rulemaking filed by Hampton Roads Educational Telecommunications Association (“HRETA”), the licensee of noncommercial educational television station WHRO-TV, channel *16, Hampton-Norfolk, Virginia, requesting the reallotment of its channel *16 to Norfolk, Virginia-Elizabeth City, North Carolina, as Elizabeth City's first local TV service. HRETA also requests modification of station WHRO-TV's license to specify Norfolk, Virginia-Elizabeth City, North Carolina as its community of license. There is presently a freeze on the filing of television allotment rulemaking petitions, but since HRETA'S proposal contemplates no changes in the technical specifications of WHRO-TV, a grant of its request for a waiver of the freeze will not undermine the underlying purpose of the freeze. Waiving the freeze will serve the public interest by moving forth with HRETA's proposal to change its community of license to provide Elizabeth City with its first television broadcast station.

DATES: Comments must be filed on or before September 30, 2011, and reply comments on or before October 17, 2011.

ADDRESSES: Federal Communications Commission, Office of the Secretary, 445 12th Street, SW., Washington, DC 20554. In addition to filing comments with the FCC, interested parties should serve counsel for petitioner as follows: Lauren A. Colby, Esq., 10 E. Fourth Street, P.O. Box 113, Frederick, Maryland 21701.

FOR FURTHER INFORMATION CONTACT: Joyce L. Bernstein, joyce.bernstein@fcc.gov, Media Bureau, (202) 418-1600.

SUPPLEMENTARY INFORMATION: This is a synopsis of the Commission's Notice of Proposed Rule Making, MB Docket No. 11-139, adopted August 15, 2011, and released August 17, 2011. The full text of this document is available for public inspection and copying during normal business hours in the FCC's Reference Information Center at Portals II, CY-A257, 445 12th Street, SW., Washington, DC 20554. This document will also be available via ECFS (http://www.fcc.gov/cgb/ecfs/). (Documents will be available electronically in ASCII, Word 97, and/or Adobe Acrobat.) This document may be purchased from the Commission's duplicating contractor, Best Copy and Printing, Inc., 445 12th Street, SW., Room CY-B402, Washington, DC 20554, telephone 1-800-478-3160 or via e-mail http://www.BCPIWEB.com. To request this document in accessible formats (computer diskettes, large print, audio recording, and Braille), send an e-mail to fcc504@fcc.gov or call the Commission's Consumer and Governmental Affairs Bureau at (202) 418-0530 (voice), (202) 418-0432 (TTY). This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding. Members of the public should note that from the time a Notice of Proposed Rule Making is issued until the matter is no longer subject to Commission consideration or court review, all ex parte contacts (other than ex parte presentations exempt under 47 CFR 1.1204(a)) are prohibited in Commission proceedings, such as this one, which involve channel allotments. See 47 CFR 1.1208 for rules governing restricted proceedings.

For information regarding proper filing procedures for comments, see 47 CFR 1.415 and 1.420.

List of Subjects in 47 CFR Part 73

Television, Television broadcasting.

Federal Communications Commission.
Barbara A. Kreisman,
Chief, Video Division, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 303, 334, 336, and 339.

§ 73.622(i) [Amended]

2. Amend § 73.622(i), the Post-Transition Table of DTV Allotments, by adding Channel *16 at Elizabeth City under North Carolina, deleting Channel *16 at Hampton-Norfolk under Virginia, and adding Channel *16 at Norfolk.

[FR Doc. 2011-22200 Filed 8-30-11; 8:45 am]

BILLING CODE 6712-01-P